NATIONAL ARCHIVES AND RECORDS ADMINISTRATION

Advisory Committee on Presidential Libraries Meeting

Notice is hereby given that the Advisory Committee on Presidential Libraries will meet on September 16, 2003, from 1 p.m. to 3:30 p.m., at the Hotel Lombardy in the International Room located at 2019 Pennsylvania Avenue NW., Washington, DC.

The agenda for the meeting will be the Presidential library programs and a discussion of several critical issues.

The meeting will be open to the public.

FOR FURTHER INFORMATION CONTACT: Richard L. Claypoole, (301) 837-2047.

Dated: August 6, 2003.
Mary Ann Hadyka,
Committee Management Officer.

[FR Doc. 03-20583 Filed 8-12-03; 8:45 am]

BILLING CODE 7515-01-U